SECURITIES AND EXCHANGE COMMISSION

Sunshine Act Meetings

TIME AND DATE: Notice is hereby given, pursuant to the provisions of the Government in the Sunshine Act, Public Law 94-409, that the Securities and Exchange Commission Investor Advisory Committee will hold a public meeting on Thursday May 21, 2020, by remote means and/or at the Commission's headquarters, 100 F St. NE, Washington, DC 20549. The meeting will begin at 10:00 a.m. (ET) and will be open to the public.

PLACE: The meeting will be conducted by remote means and/or at the Commission's headquarters, 100 F St. NE, Washington, DC 20549. Members of the public may watch the webcast of the meeting on the Commission's website at www.sec.gov.

STATUS: This Sunshine Act notice is being issued because a majority of the Commission may attend the meeting.

MATTERS TO BE CONSIDERED: The agenda for the meeting includes welcome remarks, approval of previous meeting minutes, discussion of subcommittee recommendations, panel discussion regarding index funds, a non-public administrative session, panel discussion regarding credit rating agencies, and subcommittee reports.

CONTACT PERSON FOR MORE INFORMATION: For further information and to ascertain what, if any, matters have been added, deleted or postponed; please contact Vanessa A. Countryman from the Office of the Secretary at (202) 551-5400.

Dated: May 1, 2020.
Vanessa A. Countryman,
Secretary.

[FR Doc. 2020-09710 Filed 5-1-20; 4:15 pm]

BILLING CODE 8011-01-P